DEPARTMENT OF ENERGY

Federal Energy Regulatory Commission

[Docket No. EL09-58-000]

Michigan Public Power Agency, Michigan South Central Power Agency, and Wolverine Power Supply Cooperative, Inc. Complainants v. Midwest Independent Transmission System Operator, Inc. Respondent; Notice of Complaint

June 5, 2009.

Take notice that on June 3, 2009, pursuant to section 206 of the Commission's Rules and Practice and Procedure, 18 CFR 385.206 and sections 206 and 306 of the Federal Power Act, 16 U.S.C. 824(e) and 825(e), the Michigan Public Power Agency (MPPA), the Michigan South Central Power Agency (MSCPA), and Wolverine Power Supply Cooperative, Inc. (Wolverine) (collectively, the Michigan Parties) filed a formal complaint against Midwest Independent Transmission System Operator, Inc. (Midwest ISO) requesting that the Commission determine and rule that the Midwest ISO is prohibited from assessing charges under Schedule 26 of its Open Access Energy Market and Transmission Tariff on load served under the Michigan Parties' respective Carved-Out Grandfathered Agreements.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 24, 2009.

Kimberly D. Bose,
Secretary.

[FR Doc. E9-13791 Filed 6-11-09; 8:45 am]

BILLING CODE 6717-01-P